DEPARTMENT OF THE INTERIOR

National Park Service

National Register of Historic Places; Notification of Pending Nominations and Related Actions

Nominations for the following properties being considered for listing or related actions in the National Register were received by the National Park Service before April 23, 2010. Pursuant to section 60.13 of 36 CFR part 60, written comments are being accepted concerning the significance of the nominated properties under the National Register criteria for evaluation. Comments are also being accepted on the following properties being considered for removal pursuant to 36 CFR 60.15. Comments may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by June 8, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ILLINOIS

Cook County

Sauganash Historic District, Roughly bounded by Lemont and Keating Aves, Chicago and Northwestern Railway, and the alley to the east of Kilbourn Ave, Chicago, 10000310

Union Park Hotel, 1519-1521 W Warren Blvd, Chicago, 10000309

West Argyle Street Historic District, Roughly bounded by N Sheridan Rd, W Ainslie St, N Broadway, and W Winona St, Chicago, 10000311

Kane County

St. Charles Hospital, 400 E New York St, Aurora, 10000312

MISSOURI

Montgomery County

McKittrick Farmers Mercantile, 500 Washington St, McKittrick, 10000313

NORTH CAROLINA

Johnston County

Clayton Historic District, Bounded by Mulberry St, W Barnes St, Mill St, S Lombard St, Blanch St, Clayton, 10000314

OHIO

Cuyahoga County

Baldwin-Wallace College South Campus Historic District, Seminary St between School and Church Front to Beach, variable W/E boundary, Berea, 10000315

SOUTH CAROLINA

Greenville County

Quillen, Robert, Office and Library, 200 N Main St, Greenville, 10000316

Spartanburg County

Davis, James M., House, 2763 Old Hwy 14 S, Pelham, 10000317

WISCONSIN

Columbia County

Bellack, Albert M. and Alice, House, 628 W James St, Columbus, 10000318

Schendel, Reinhard and Amelia, House, 211 N Ludington St, Columbus, 10000319

[FR Doc. 2010-12338 Filed 5-21-10; 8:45 am]

BILLING CODE P